DEPARTMENT OF AGRICULTURE

Agricultural Marketing Service

[Document No. AMS-TM-21-0070]

Seafood Processors Pandemic Response and Safety Block Grant Program; Request for Emergency Approval of a New Information Collection

AGENCY: Agricultural Marketing Service, USDA.

ACTION: Notice of emergency request.

SUMMARY: In accordance with the Paperwork Reduction Act of 1995, this notice announces the U.S. Department of Agriculture (USDA), Agricultural Marketing Service's (AMS) intention to receive approval from the Office of Management and Budget (OMB) for a new information collection to administer the Seafood Processors Pandemic Response and Safety (SPRS) Block Grant Program under its Grants Division. Due to the enactment of the Consolidated Appropriations Act, 2021 (CAA), AMS Grants Division is implementing this new grant program under Title VII, subtitle, B, section 751, which directs the Secretary of Agriculture to provide “grants and loans to small or midsized food processors or distributors, seafood processing facilities and processing vessels, farmers markets, producers, or other organizations to respond to coronavirus, including for measures to protect workers against the Coronavirus Disease 2019 (COVID-19).”

DATES: Submit comments on or before November 30, 2021.

ADDRESSES: Interested persons are invited to submit comments concerning this notice by using the electronic process available at www.regulations.gov. Written comments may also be submitted to Grants Division; Transportation and Marketing Program; AMS; USDA; 1400 Independence Avenue SW, Room 2055-South Building, Stop 0201; Washington, DC 20250-0264. All comments should reference the docket number AMS-TM-21-0070, the date of submission, and the page number of this issue of the Federal Register. All comments received will be posted without change, including any personal information provided, at www.regulations.gov; will be included in the record; and made available to the public.

FOR FURTHER INFORMATION CONTACT: John Miklozek, Director, Grants Division; (202) 720-1403 or email John.Miklozek@usda.gov.

SUPPLEMENTARY INFORMATION:

Overview of This Information Collection

Agency: USDA, AMS.

Title: New Grant Program Information Request.

OMB Number: 0581-NEW.

Type of Request: Emergency Approval of a New Information Collection.

Abstract: The Agricultural Marketing Act of 1946 (AMA) (7 U.S.C. 1621 et seq.) directs and authorizes USDA to administer Federal grant programs. AMS Grant Programs are administered through the Office of Management and Budget (OMB) Guidance for Grants and Agreements based on its regulations under the Uniform Administrative Requirements, Cost Principles, and Audit Requirements for Federal Awards (2 CFR part 200) (85 FR 49506; December 13, 2020). Information collection requirements described in this emergency request are needed for AMS to administer a new competitive grant program, in accordance with 2 CFR part 200, entitled the Seafood Processors Pandemic Response and Safety (SPRS) Block Grant Program under OMB No. 0581-NEW.

SPRS is authorized pursuant to the authority of Title VII, subtitle B, section 751 of the Consolidated Appropriations Act, 2021 (CAA) (Pub. L. 116-260) in response to the ongoing COVID-19 pandemic and the need for worker protections in seafood processing. The AMS Grants Division requests to collect information for this new grant program from states, individuals, small businesses, and nonprofit organizations working in seafood processing.

Because this is a voluntary program, respondents request or apply for this specific competitive grant, and in doing so, they provide information. The information collected is used only by authorized representatives of USDA, AMS, Transportation and Marketing Program's Grants Division to certify that grant participants are complying with applicable program regulations. Data collected is the minimum information necessary to effectively carry out program requirements.

Information collection requirements in this request are essential to carry out the intent of section 751 of the CAA, to provide respondents the type of service they request, and to administer the program.

Upon OMB approval of the SPRS information collection package, AMS will request OMB approval to merge this information collection into the currently approved information collection OMB control number 0581-0240 approved on January 13, 2021.

Estimate of Burden: Public reporting burden for this collection of information is estimated to average 27 hours per response.

Respondents: Grant applicants; or grant recipients.

Estimated Number of Respondents: 25.

Estimated Total Annual Responses Including Recordkeeping: 485.

Estimated Number of Responses per Respondent: 19.

Estimated Total Annual Burden on Respondents and Recordkeepers: 1,025 hours.

Comments are invited on: (1) Whether the proposed collection of information is necessary for the proper performance of the functions of the agency, including whether the information will have practical utility; (2) the accuracy of the agency's estimate of the burden of the new collection of information including the validity of the methodology and assumptions used; (3) ways to enhance the quality, utility, and clarity of the information to be collected; and (4) ways to minimize the burden of information collection on those who are to respond, including the use of appropriate automated, electronic, mechanical, or other technological collection techniques or other forms of information technology.

Obtaining OMB's approval of this new information collection enables AMS Grants Division to publish a Request for Applications (RFA) to establish application requirements, the review and approval process, and grant administration procedures. These procedures will enable eligible entities to develop appropriate grant applications for the program so that AMS can adequately evaluate these new proposals and obligate the funds as required by the CAA.

Erin Morris,
Associate Administrator, Agricultural Marketing Service.

[FR Doc. 2021-21347 Filed 9-30-21; 8:45 am]

BILLING CODE P